DEPARTMENT OF AGRICULTURE

Forest Service

Lake Tahoe Basin Federal Advisory Committee

AGENCY: Forest Service, USDA.

ACTION: Notice of meeting.

SUMMARY: The Lake Tahoe Federal Advisory Committee (LTFAC) will hold meetings on March 31, 2011, April 6, 2011, and April 19, 2011 at the Lake Tahoe Basin Management Unit, 35 College Drive, South Lake Tahoe, CA 96150. This Committee, established by the Secretary of Agriculture on December 15, 1998 (64 FR 2876), is chartered to provide advice to the Secretary on implementing the terms of the Federal Interagency Partnership on the Lake Tahoe Region and other matters raised by the Secretary.

DATES: The meetings will be held March 31, 2011 beginning at 10 a.m. and ending at 4 p.m. and April 6, 2011, beginning at 10 a.m. and ending at 4 p.m. and April 19, 2011 beginning at 10 a.m. and ending at 4 p.m.

ADDRESSES: The meetings will be held at the Lake Tahoe Basin Management Unit, 35 College Drive, South Lake Tahoe, CA 96150.

For Further Information or to Request an Accommodation (one week prior to meeting date) Contact: Arla Hains, Lake Tahoe Basin Management Unit, Forest Service, 35 College Drive, South Lake Tahoe, CA 96150, (530) 543-2773.

SUPPLEMENTARY INFORMATION: Items to be covered on the agenda on March 31, 2011: (1) Tahoe Working Group presentation on the Southern Nevada Public Management Act (SNPLMA) Round 12 capital project nominations and science themes, and (2) public comment. Items to be covered on the agenda on April 6 include: (1) Follow-up presentations on the SNPLMA Round 12 capital project nominations and science themes, and (2) public comments. Items to be covered on the agenda on April 9 include (1) LTFAC SNPLMA Round 12 preliminary recommendations for capital projects and science themes, and (2) public comment.

All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

This Federal Register notice will be published less than 15 calendar days based on these exceptional circumstances: (1) The 2011 LTFAC has only recently received a preliminary confirmation (February 1, 2011); and (2) there will be timely meeting notification through the LTBMU Web site at http://www.fs.fed.us/r5/ltbmu/local/ltfac/.

Dated: March 16, 2011.
Michael LeFevre,
Acting Forest Supervisor.

[FR Doc. 2011-6629 Filed 3-21-11; 8:45 am]

BILLING CODE 3410-11-P